DEPARTMENT OF HEALTH AND HUMAN SERVICES

Centers for Disease Control and Prevention

[60Day-20-0004; Docket No. CDC-2020-0031]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled National Disease Surveillance Program—II. Disease Summaries information collection. This collection is used to determine the prevalence of disease and for planning and evaluating programs for prevention and control of infectious diseases.

DATES: CDC must receive written comments on or before May 22, 2020.

ADDRESSES: You may submit comments, identified by Docket No. CDC-2020-0031 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Disease Surveillance Program II Disease Summaries (OMB Control Number 0920-0004, Expiration Date 10/31/2020) — Revision — National Center for Immunization and Respiratory Diseases (NCIRD), Centers for Disease Control and Prevention (CDC).

Background and Brief Description

CDC requests a three-year approval for the revision of the National Disease Surveillance Program II Disease Summaries information collection. As with the previous approval, these data are essential for measuring trends in diseases, evaluating the effectiveness of current preventive strategies, and determining the need to modify current preventive measures. The following diseases in this surveillance program are Influenza Virus, Caliciviruses, Respiratory and Enteric Viruses. Proposed revisions include removal of the National Outbreak Reporting System (NORS) from this information collection request (NORS is now being submitted as its own information collection request, separate from 0920-0004), and addition of bocavirus and norovirus to two worksheets (CDC 55.83A and CDC 55.83D). The data will enable rapid detection and characterization of outbreaks of known pathogens, as well as potential newly emerging viral pathogens.

The total burden estimate for all collection instruments in this revision request is 24,115. The frequency of response for each form will depend on the disease and surveillance need. This reduction in burden hours is primarily attributed to the removal of NORS from this information collection.

Estimated Annualized Burden Hours
Type of respondents | Form name | Number of respondents | Number of responses per respondent | Average burden per response (in hours) | Total burden (in hours)
Epidemiologist | Attachment E—WHO COLLABORATING CENTER FOR INFLUENZA Influenza Virus Surveillance | 53 | 52 | 10/60 | 459
Epidemiologist | Attachment F—U.S. WHO Collaborating Laboratories Influenza Testing Methods Assessment | 113 | 1 | 10/60 | 19
Epidemiologist | Attachment G—U.S. Outpatient Influenza-like Illness Surveillance Network (ILINet) Weekly—CDC 55.20 | 1,800 | 52 | 10/60 | 15,600
Epidemiologist | Attachment H—U.S. Outpatient Influenza-like Illness Surveillance Network (ILINet) Workfolder 55.20E | 1,800 | 1 | 5/60 | 150
Epidemiologist | Attachment J—Influenza-Associated Pediatric Mortality—Case Report Form | 57 | 2 | 30/60 | 57
Epidemiologist | Attachment K—Human Infection with Novel Influenza A Virus Case Report Form | 57 | 2 | 30/60 | 57
Epidemiologist | Attachment M—Human Infection with Novel Influenza A Virus Severe Outcomes | 57 | 1 | 90/60 | 86
Epidemiologist | Attachment P—Novel Influenza A Virus Case Screening Form | 57 | 1 | 15/60 | 14
Epidemiologist | Attachment T—Antiviral Resistant Influenza Infection Case Report Form | 57 | 3 | 30/60 | 86
Epidemiologist | Attachment U—National Respiratory & Enteric Virus Surveillance System (NREVSS) (55.83A, B, D) (electronic) | 550 | 52 | 15/60 | 7,150
Epidemiologist | Attachment V—National Enterovirus Surveillance Report: (CDC 55.9) (electronic) | 20 | 12 | 15/60 | 60
Epidemiologist | Attachment W—National Adenovirus Type Reporting System (NATRS) | 13 | 4 | 15/60 | 13
Epidemiologist | Attachment X—Middle East Respiratory Syndrome (MERS) Patient Under Investigation (PUI) Short Form | 57 | 3 | 25/60 | 71
Epidemiologist | Attachment Y—Viral Gastroenteritis Outbreak Submission Form | 20 | 5 | 5/60 | 8
Epidemiologist | Attachment AA—Influenza Virus (Electronic, Year Round), PHLIP_HL7 messaging Data Elements | 57 | 52 | 5/60 | 247
Epidemiologist | Attachment BB—Influenza virus (electronic, year round) (PHIN-MS) | 3 | 52 | 5/60 | 13
Epidemiologist | Attachment CC—Suspect Respiratory Virus Patient Form | 10 | 5 | 30/60 | 25
Total |  |  |  |  | 24,115

Jeffrey M. Zirger,
Lead, Information Collection Review Office, Office of Scientific Integrity, Office of Science, Centers for Disease Control and Prevention.

[FR Doc. 2020-06019 Filed 3-20-20; 8:45 am]

BILLING CODE 4163-18-P